DEPARTMENT OF ENERGY

Federal Energy Regulatory Commission

[Project No. 935, Project No. 2071, Project No. 2111, and Project No. 2213]

PacifiCorp; Public Utility District No. 1 of Cowlitz County; Notice of Scoping Meetings and Tour of Projects Pursuant to the National Environmental Policy Act of 1969 for an Applicant Prepared Environmental Assessment

May 17, 2000.

The Commission's regulations allow applicants the option of preparing their own Environmental Assessment (EA) for hydropower projects, and filing the EA with their application as part of an alternative licensing procedure. ¹ On April 1, 1999, the Commission approved the use of an alternative licensing procedure in the preparation of a new license application for PacificCorp's Merwin, Yale, and Swift No. 1 Projects, and Public Utility District No. 1 of Cowlitz County's (Cowlitz PUD) Swift No. 2 Project; project numbers. 935, 2071, 2111, and 2213, respectively. The Commission has also accelerated the Merwin license expiration and is delaying action on the Yale application (filed May 5, 1999) so all four projects can be relicensed at the same time.

¹ 81 FERC ¶ 61,103 (1997).

The alternative procedures include provisions for the distribution of an initial information package (IIP), and for the cooperative scoping of environmental issues and needed studies. PacifiCorp and Cowlitz PUD (licensees) distributed the IIP on March, 8 2000. During the week of May 15, 1999, the licensees will distribute a Scoping Document (SD1). ² Two public meetings will be held to discuss these documents.

² Copies of these documents can be obtained by calling Frank Shrier of PacifiCorp at 503-813-6622 or Diana Macdonald of Cowlitz PUD at 360-577-7578.

Scoping Meetings

The licensees will hold public scoping meetings on June 21, 2000, pursuant to the National Environmental Policy Act (NEPA) of 1969. At the scoping meetings, the licensees will: (1) Briefly summarize the material presented in the scoping document and the environmental issues tentatively identified in the scoping document for analysis in the EA; (s) outline any resources they believe would not require a detailed analysis; (3) identify reasonable alternatives to be addressed in the EA; (4) solicit from the meeting participants all available information, especially quantitative data, on the resources at issue; and (5) encourage statements from experts and the public on issues that should be analyzed in the EA.

Although the licensees intent is to prepare an EA, there is the possibility that an Environmental Impact Statement (EIS) will be required. Nevertheless, this meeting will satisfy the NEPA scoping requirements, irrespective of whether an EA or EIS is issued by the Commission.

The times and locations of the scoping meetings are:

Daytime Scoping Meeting

June 21, 2000, 9 a.m. to 4 p.m., Oak Tree Restaurant, Woodland, Washington.

Evening Scoping Meeting

June 21, 2000, 6 p.m. to 8 p.m., Oak Tree Restaurant, Woodland, Washington.

All interested individuals, organizations, and agencies are invited and encouraged to attend any or all of the meetings to assist in identifying and clarifying the scope of environmental issues that should be analyzed in the EA.

Project Tour

A public tour of the projects is scheduled for June 22, 2000. The tour will begin at the Merwin Project headquarters in Ariel, Washington. Those interested in the project tour should contact Frank Shrier at 503-813-6622.

Scoping Meeting Procedures

The meetings will be conducted according to the procedures used at Commission scoping meetings in that the meetings will be recorded. Because these will be NEPA scoping meetings under the ALP, the Commission does not intend to conduct further NEPA scoping meetings after the applications and EA are filed with the Commission. Instead, Commission staff will participate in the meetings on June 21, 2000.

Both scoping meetings will be recorded, and the transcripts will become part of the formal record for this project. Those who choose not to speak during the scoping meetings may instead submit written comments on the project. Written comments should be mailed or e-mailed to:

Frank Shrier, PacifiCorp, 825 NE Multnomah, Suite 1500, Portland, OR 97232; frank.shrier@pacificorp.com

Diana MacDonald, Cowlitz County PUD, Box No. 3007, 961 12th Avenue, Longview, WA 98632; dmacdonald@cowlitzpud.org

Commenting Deadline

All correspondence should be postmarked no later than July 17, 2000. Comments should show the following caption on the first page: Scoping Comments, Lewis River Projects, Project Nos. 935, 2071, 2111, 2213.

For further information please contact Vince Yearick of the Commission at (202) 219-3073 or vince.yearick@ferc.fed.us

Linwood A. Watson, Jr.,
Acting Secretary.

[FR Doc. 00-12859 Filed 5-22-00; 8:45 am]

BILLING CODE 6717-01-M